DEPARTMENT OF COMMERCE

National Oceanic and Atmospheric Administration

50 CFR Part 217

Regulations Governing the Take of Marine Mammals Incidental to Specified Activities

CFR Correction

This rule is being published by the Office of the Federal Register to correct an editorial or technical error that appeared in the most recent annual revision of the Code of Federal Regulations.

In Title 50 of the Code of Federal Regulations, Parts 200 to 227, revised as of October 1, 2023, remove Subpart I to Part 217.

[FR Doc. 2024-02695 Filed 2-7-24; 8:45 am]

BILLING CODE 0099-10-P